DEPARTMENT OF DEFENSE

Department of the Army

Privacy Act of 1974; System of Records

AGENCY: Department of the Army, DoD.

ACTION: Notice to Amend Systems of Records.

SUMMARY: The Department of the Army is amending a system of records notice in its existing inventory of records systems subject to the Privacy Act of 1974, (5 U.S.C. 552a), as amended.

DATES: This proposed action will be effective without further notice on December 20, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: November 9, 2001.
L.M. Bynum,
Alternate OSD Federal Register Liaison Officer, Department of Defense.

A0040-1 DASG

System Name:

Professional Consultant Control Files (August 7, 1997, 62 FR 42524).

Changes:

* * * * *

Categories of Individuals Covered by the System:

Delete “used or” from entry.

Categories of Records in the System:

Delete entry and replace with ‘Name, Social Security Number, address, curriculum vitae, appointment, duties, experience, compensation of appointed consultants.’

* * * * *

Purpose(s):

Revise entry to read ‘To evaluate and appoint select individuals as professional consultants.’

* * * * *

Routine Uses of Records Maintained in the System, Including Categories of Users and the Purposes of Such Uses:

Delete second paragraph.

* * * * *

Retrievability:

Delete entry and replace with ‘By name.’

* * * * *

A0040-1 DASG

System Name:

Professional Consultant Control Files.

System Location:

Office of the Surgeon General, Headquarters, Department of the Army; U.S. Army Medical Command; U.S. Army Medical Command, Europe; U.S. Army Medical Command, Korea. Official mailing addresses are published as an appendix to the Army’s compilation of system of records notices.

Categories of Individuals Covered by the System:

Any individual who has been appointed as a professional consultant in the professional medical services.

Categories of Records in the System:

Name, Social Security Number, address, curriculum vitae, appointment, duties, experience, compensation of appointed consultants.

Authority for Maintenance of the System:

10 U.S.C. 3013, Secretary of the Army; 10 U.S.C., Chapter 55, Medical and Dental Care; Army Regulation 40-1, Composition, Mission, and Function of The Army Medical Department; and E.O. 9397 (SSN).

Purpose(s):

To evaluate and appoint select individuals as professional consultants.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system of records.

Policies and Practices for Storing, Retrieving, Accessing, Retaining, and Disposing of Records in the System:

Storage:

Paper records in file folders.

Retrievability:

By name.

Safeguards:

Records are maintained in secured areas accessible only to authorized individuals having official need therefore in the performance of assigned duties.

Retention and Disposal:

Records are destroyed 1 year after termination of consultant's appointment.

System Manager(s) and Address:

Chief Information Officer, Office of the Surgeon General, U.S. Army Medical Command, 2050 Worth Road, Suite 13, Fort Sam Houston, TX 78234-6013.

Notification Procedure:

Individuals seeking to determine whether information about themselves is contained in this system should address written inquiries to Chief Information Officer, Office of the Surgeon General, U.S. Army Medical Command, 2050 Worth Road, Suite 13, Fort Sam Houston, TX 78234-6013.

For verification purposes, the individual should provide the full name, current address and telephone number, and signature.

Record Access Procedures:

Individuals seeking access to information about themselves contained in this system should address written inquiries to Chief Information Officer, Office of the Surgeon General, U.S. Army Medical Command, 2050 Worth Road, Suite 13, Fort Sam Houston, TX 78234-6013.

For verification purposes, the individual should provide the full name, current address and telephone number, and signature.

Contesting Record Procedures:

The Army's rules for accessing records, and for contesting contents and appealing initial agency determinations are contained in Army Regulation 340-21; 32 CFR part 505; or may be obtained from the system manager.

Record Source Categories:

From the individual, Army records and reports.

Exemptions Claimed for the System:

None.

[FR Doc. 01-28897 Filed 11-19-01; 8:45 am]

BILLING CODE 5001-08-P